DEPARTMENT OF COMMERCE

National Oceanic and Atmospheric Administration

50 CFR Part 679

[Docket No. 161020985-7181-02]

RIN 0648-XF458

Fisheries of the Exclusive Economic Zone Off Alaska; Exchange of Flatfish in the Bering Sea and Aleutian Islands Management Area

AGENCY: National Marine Fisheries Service (NMFS), National Oceanic and Atmospheric Administration (NOAA), Commerce.

ACTION: Temporary rule; reallocation.

SUMMARY: NMFS is exchanging unused yellowfin sole Community Development Quota (CDQ) for rock sole CDQ acceptable biological catch (ABC) reserves in the Bering Sea and Aleutian Islands management area. This action is necessary to allow the 2017 total allowable catch of rock sole in the Bering Sea and Aleutian Islands management area to be harvested.

DATES: Effective May 26, 2017 through December 31, 2017.

FOR FURTHER INFORMATION CONTACT: Steve Whitney, 907-586-7228.

SUPPLEMENTARY INFORMATION: NMFS manages the groundfish fishery in the Bering Sea and Aleutian Islands management area (BSAI) according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2017 rock sole and yellowfin sole CDQ reserves specified in the BSAI are 5,040 metric tons (mt), and 16,478 mt as established by the final 2017 and 2018 harvest specifications for groundfish in the BSAI (82 FR 11826; February 27, 2017). The 2017 rock sole and yellowfin sole CDQ ABC reserves are 11,556 mt and 11,428 mt as established by the final 2017 and 2018 harvest specifications for groundfish in the BSAI (82 FR 11826; February 27, 2017).

The Aleutian Pribilof Island Community Development Association has requested that NMFS exchange 700 mt of yellowfin sole CDQ reserves for 700 mt of rock sole CDQ ABC reserves under § 679.31(d). Therefore, in accordance with § 679.31(d), NMFS exchanges 700 mt of yellowfin sole CDQ reserves for 700 mt of rock sole CDQ ABC reserves in the BSAI. This action also decreases and increases the TACs and CDQ ABC reserves by the corresponding amounts. Tables 11 and 13 of the final 2017 and 2018 harvest specifications for groundfish in the BSAI (82 FR 11826; February 27, 2017), are revised as follows:

Table 11—Final 2017 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,900 | 7,000 | 9,000 | 14,500 | 47,800 | 153,300
CDQ | 845 | 749 | 963 | 1,552 | 5,740 | 15,778
ICA | 100 | 60 | 10 | 4,000 | 5,000 | 4,500
BSAI trawl limited access | 695 | 619 | 161 | 0 | 0 | 18,151
Amendment 80 | 6,259 | 5,572 | 7,866 | 8,949 | 37,060 | 114,871
Alaska Groundfish Cooperative | 3,319 | 2,954 | 4,171 | 918 | 9,168 | 45,638
Alaska Seafood Cooperative | 2,940 | 2,617 | 3,695 | 8,031 | 27,893 | 69,233
Note: Sector apportionments may not total precisely due to rounding.

Table 13—Final 2017 and 2018 ABC Surplus, Community Development Quota (CDQ) ABC Reserves, and Amendment 80 ABC Reserves in the BSAI for Flathead Sole, Rock Sole, and Yellowfin Sole
[Amounts are in metric tons]
Sector | 2017 Flathead sole | 2017 Rock sole | 2017 Yellowfin sole | 2018 Flathead sole | 2018 Rock sole | 2018 Yellowfin sole
ABC | 68,278 | 155,100 | 260,800 | 66,164 | 143,100 | 250,800
TAC | 14,500 | 47,800 | 153,300 | 14,500 | 47,100 | 154,000
ABC surplus | 53,778 | 107,300 | 107,500 | 51,664 | 96,000 | 96,800
ABC reserve | 53,778 | 107,300 | 107,500 | 51,664 | 96,000 | 96,800
CDQ ABC reserve | 5,754 | 10,856 | 12,128 | 5,528 | 10,272 | 10,358
Amendment 80 ABC reserve | 48,024 | 96,444 | 95,372 | 46,136 | 85,728 | 86,442
Alaska Groundfish Cooperative for 2017 ¹ | 4,926 | 23,857 | 37,891 | n/a | n/a | n/a
Alaska Seafood Cooperative for 2017 ¹ | 43,098 | 72,587 | 57,481 | n/a | n/a | n/a
¹ The 2018 allocations for Amendment 80 species between Amendment 80 cooperatives and the Amendment 80 limited access sector will not be known until eligible participants apply for participation in the program by November 1, 2017.

Classification

This action responds to the best available information recently obtained from the fishery. The Acting Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the flatfish exchange by the Aleutian Pribilof Island Community Development Association in the BSAI. Since these fisheries are currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of May 18, 2017.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: May 23, 2017.
Margo B. Schulze-Haugen,
Acting Deputy Director, Office of Sustainable Fisheries, National Marine Fisheries Service.

[FR Doc. 2017-10861 Filed 5-25-17; 8:45 am]

BILLING CODE 3510-22-P